DEPARTMENT OF COMMERCE

International Trade Administration

[A-557-816]

Certain Steel Nails from Malaysia: Final Results of Antidumping Duty Administrative Review; 2020-2021

AGENCY: Enforcement and Compliance, International Trade Administration, Department of Commerce.

SUMMARY: The U.S. Department of Commerce (Commerce) determines that certain steel nails from Malaysia were sold at less than normal value during the period of review (POR), July 1, 2020, through June 30, 2021.

DATES: Applicable February 8, 2023.

FOR FURTHER INFORMATION CONTACT: John Drury or Emily Bradshaw, AD/CVD Operations, Office VI, Enforcement and Compliance, International Trade Administration, U.S. Department of Commerce, 1401 Constitution Avenue NW, Washington, DC 20230; telephone: (202) 482-0195 and (202) 482-3956.

SUPPLEMENTARY INFORMATION:

Background

On August 5, 2022, Commerce published the Preliminary Results of the 2020-2021 administrative review of the antidumping duty order on certain steel nails from Malaysia.¹ We invited interested parties to comment on the Preliminary Results.² On November 21, 2022, we extended the deadline for these final results until February 1, 2023.³ This review covers two mandatory respondents: Region and Inmax.⁴ The producers/exporters not selected for individual examination are referenced in the “Final Results of Review” section below and listed in Appendix II of this notice. For a complete description of the events that followed the Preliminary Results, see the Issues and Decision Memorandum.⁵ Commerce conducted this administrative review in accordance with section 751 of the Tariff Act of 1930, as amended (the Act).

¹ See Certain Steel Nails from Malaysia: Preliminary Results of Antidumping Duty Administrative Review; 2020-2021, 87 FR 47978 (August 5, 2022) (Preliminary Results), and accompanying Preliminary Decision Memorandum.

² See Preliminary Results, 87 FR at 47978.

³ See Memorandum, “Extension of Deadline for Final Results of Antidumping Duty Administrative Review; 2020-2021,” dated November 21, 2022.

⁴ As in the last completed administrative review, Commerce continues to treat Region International Co. Ltd. and Region System Sdn. Bhd. (collectively, Region) as a collapsed single entity, and to treat Inmax Sdn. Bhd. and Inmax Industries Sdn. Bhd. (collectively, Inmax) as a collapsed single entity in this administrative review. See, e.g., Certain Steel Nails from Malaysia: Final Results of Antidumping Duty Administrative Review; 2019-2020, 87 FR 5794 (February 2, 2022).

⁵ See Memorandum, “Decision Memorandum for the Final Results of the 2020-2021 Administrative Review of the Antidumping Duty Order on Certain Steel Nails from Malaysia,” dated concurrently with, and hereby adopted by, this notice (Issues and Decision Memorandum).

Scope of the Order

The products covered by the scope of the order are certain steel nails from Malaysia. For a complete description of the scope of the order, see the Issues and Decision Memorandum.⁶

⁶ Id. at 2-4.

Analysis of Comments Received

All issues raised in the case and rebuttal briefs filed by interested parties in this review are discussed in the Issues and Decision Memorandum. A list of the topics included in the Issues and Decision Memorandum is attached as Appendix I to this notice. The Issues and Decision Memorandum is a public document and is made available to the public via Enforcement and Compliance's Antidumping and Countervailing Duty Centralized Electronic Service System (ACCESS). ACCESS is available to registered users at https://access.trade.gov. In addition, a complete version of the Issues and Decision Memorandum can be found at https://access.trade.gov/public/FRNoticesListLayout.aspx.

Final Determination of No Shipments

In the Preliminary Results, Commerce determined that Astrotech Steels Private Limited, Trinity Steel Private Limited, and Geekay Wires Limited made no shipments of the subject merchandise to the United States during the POR. No parties commented on this determination. Therefore, for the final results of review, we continue to find that these companies made no shipments of subject merchandise to the United States during the POR. Consistent with our practice, we will issue appropriate instructions to U.S. Customs and Border Protection (CBP) based on our final results.

Changes Since the Preliminary Results

Based on the comments received from interested parties regarding our Preliminary Results, we made certain changes to the margin calculation methodology used in the Preliminary Results and have changed the dumping margin for these final results of review, as discussed in the Issues and Decision Memorandum.

Rates for Non-Selected Respondents

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero and de minimis margins, and any margins determined entirely {on the basis of facts available}.”

In this review, we preliminarily calculated weighted-average dumping margins for Inmax and Region that are not zero, de minimis, or determined entirely on the basis of facts available.⁷ For the final results, we continue to calculate weighted-average dumping margins for Inmax and Region that are not zero, de minimis, or determined entirely on the basis of facts available. For Inmax, we do not have publicly-ranged export data and, therefore, we are unable to calculate the rate assigned to companies not individually examined based on a weighted-average of the two mandatory respondents' margins using publicly-ranged export data. Accordingly, Commerce continues to assign to the companies not individually examined, listed in Appendix II, a margin of 1.26 percent which is the simple average of the calculated weighted-average dumping margins for Inmax and Region.

⁷ See Preliminary Results.

Final Results of Review

We determine that the following weighted-average dumping margins exist for the period July 1, 2020, through June 30, 2021:

Producer/exporter | Estimated weighted- average dumping margin (percent)
Region International Co., Ltd./Region System Sdn. Bhd | 1.21
Inmax Sdn. Bhd./Inmax Industries Sdn. Bhd | 1.30
Non-Selected Respondents ⁸ | 1.26

Disclosure of Calculations

⁸ See Appendix II for the list of non-selected respondents.

Commerce intends to disclose the calculations performed for these final results within five days after the date of the public announcement of these final results, or if there is no public announcement, within five days of the date of publication of this notice in the Federal Register, in accordance with 19 CFR 351.224(b).

Assessment Rates

Commerce shall determine, and CBP shall assess, antidumping duties on all appropriate entries.⁹ For any individually examined respondents whose weighted-average dumping margin is above de minimis, we calculated importer-specific ad valorem duty assessment rates based on the ratio of the total amount of dumping calculated for the importer's examined sales to the total entered value of those same sales, in accordance with 19 CFR 351.212(b)(1). Upon issuance of the final results of this administrative review, if any importer-specific assessment rates calculated in the final results are above de minimis (i.e., at or above 0.5 percent), Commerce will issue instructions directly to CBP to assess antidumping duties on appropriate entries.

⁹ In these final results, Commerce applied the assessment rate calculation method adopted in Antidumping Proceedings: Calculation of the Weighted-Average Dumping Margin and Assessment Rate in Certain Antidumping Proceedings: Final Modification, 77 FR 8101 (February 14, 2012).

To determine whether the duty assessment rates covering the period were de minimis, in accordance with the requirement set forth in 19 CFR 351.106(c)(2), we calculated importer (or customer)-specific ad valorem rates by aggregating the amount of dumping calculated for all U.S. sales to that importer or customer and dividing this amount by the total entered value of the sales to that importer (or customer). Where an importer (or customer)-specific ad valorem rate is greater than de minimis, and the respondent has reported reliable entered values, we will apply the assessment rate to the entered value of the importer's/customer's entries during the POR.

For the companies identified in Appendix II that were not selected for individual examination, we will instruct CBP to liquidate entries at the rates established in these final results of review.

For entries of subject merchandise during the POR produced by any of these companies for which they did not know their merchandise was destined for the United States, we will instruct CBP to liquidate such entries at the all-others rate if there is no rate for the intermediate company(ies) involved in the transaction.¹⁰

¹⁰ See Antidumping and Countervailing Duty Proceedings: Assessment of Antidumping Duties, 68 FR 23954 (May 6, 2003).

Commerce intends to issue appropriate assessment instructions directly to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of these final results for all shipments of the subject merchandise entered, or withdrawn from warehouse, for consumption on or after the publication date, as provided by section 751(a)(2) of the Act: (1) the cash deposit rate for companies subject to this review will be equal to the company-specific weighted-average dumping margin established in the final results of the review; (2) for merchandise exported by producers or exporters not covered in this review but covered in a prior segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; and (4) the cash deposit rate for all other producers or exporters will continue to be 2.66 percent, the all-others rate established in the less-than-fair-value investigation.¹¹ These cash deposit requirements, when imposed, shall remain in effect until further notice.

¹¹ See Certain Steel Nails from Malaysia: Amended Final Determination of Sales at Less Than Fair Value, 80 FR 34370 (June 16, 2015).

Notification to Importers Regarding the Reimbursement of Duties

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

This notice is issued and published in accordance with sections 751(a)(1) and 777(i)(1) of the Act, and 19 CFR 351.221.

Dated: February 1, 2023.
Lisa W. Wang,
Assistant Secretary for Enforcement and Compliance.

Appendix I

List of Topics Discussed in the Issues and Decision Memorandum

I. Summary

II. Background

III. Scope of the Order

IV. Changes Since the Preliminary Results

V. Discussion of the Issues

A. Region-Specific Issues

Comment 1: Adverse Facts Available (AFA) with Respect to Cost of Production

Comment 2: AFA with Respect to Labor and Electricity Costs

Comment 3: Correction of the Difference-In-Merchandise Calculation

Comment 4: Quarterly Costs

Comment 5: Correction to Draft Liquidation Instructions

B. Inmax-Specific Issues

Comment 6: Application of AFA With Respect to Unreliable Cost Information

Comment 7: Interest Expense Ratio

Comment 8: Ministerial Error Allegations

VI. Recommendation

Appendix II

List of Non-Selected Respondents

Airlift Trans Oceanic Pvt. Ltd.

Alsons Manufacturing India, LLP.

Atlantic Marine Group Ltd.

Bluemoon Logistics Pvt. Ltd.

C.H. Robinson Worldwide Freight India Pvt., Ltd.

Chia Pao Metal Co., Ltd.

Chuan Heng Hardware Paints and Building Materials Sdn. Bhd.

Come Best (Thailand) Co., Ltd.

Dahnay Logistics Pvt., Ltd.

Gbo Fastening Systems AB.

Honour Lane Logistics Sdn., Bhd.

Honour Lane Shipping Ltd.

Impress Steel Wire Industries Sdn., Bhd.

Kerry-Apex (Thailand) Co., Ltd.

Kerry Indev Logistics Pvt., Ltd.

Kerry Logistics (M) Sdn., Bhd.

Kimmu Trading Sdn., Bhd.

Modern Factory for Steel Industries Co., Ltd.

Oman Fasteners LLC.

Orient Containers Sdn., Bhd.

Orient Express Container Co., Ltd.

RM Wire Industries Sdn. Bhd.

Royal Logistics.

SAR Transport Systems Pvt., Ltd.

Soon Shing Building Materials Sdn., Bhd.

Storeit Services LLP.

Tag Fasteners Sdn., Bhd.

Tag Staples Sdn., Bhd.

Tampin Sin Yong Wai Industry Sdn., Bhd.

Teamglobal Logistics Pvt., Ltd.

Top Remac Industries.

UD Industries Sdn., Bhd.

Vien Group Sdn., Bhd.

Watasan Industries Sdn., Bhd.

WWL India Private Ltd.

[FR Doc. 2023-02614 Filed 2-7-23; 8:45 am]

BILLING CODE 3510-DS-P